POSTAL SERVICE

39 CFR Part 111

Revised Format for Pressure-Sensitive Presort Destination Package Labels

AGENCY: Postal Service.

ACTION: Proposed rule.

SUMMARY: This proposed rule contains minor changes to the Domestic Mail Manual (DMM) that would implement the use of redesigned pressure-sensitive package labels. The redesigned labels, similar to the current labels that mailers affix to the top mailpiece in packages of mailpieces (bundles of individual mailpieces secured together) instead of using optional endorsement lines (OELs), would continue to indicate the presort level of all the pieces banded into individual presort destination packages.

DATES: Submit comments on or before September 17, 2003.

ADDRESSES: Mail or deliver comments to the Manager, Mailing Standards, ATTN: Neil Berger, U.S. Postal Service, 1735 N. Lynn Street, Room 3025, Arlington, VA 22209-6038. Written comments may also be submitted by facsimile transmission to (703) 292-4058. Copies of all written comments will be available for inspection and photocopying between 9 a.m. and 4 p.m., Monday through Friday, at the Postal Service Headquarters Library, 11th Floor North, 475 L'Enfant Plaza SW., Washington, DC.

FOR FURTHER INFORMATION CONTACT: Neil Berger at (703) 292-3645, Mailing Standards, U.S. Postal Service; or Jamie Gallagher at (202) 268-4031, P&DC Operations, U.S. Postal Service.

SUPPLEMENTARY INFORMATION: In recent years, numerous automated advances in mail processing developed by the Postal Service have led to faster, more efficient methods of sorting individual letter-size and flat-size pieces. A new system, to be designated as the Automated Package Processing System (APPS), would extend similar benefits of automated processing to small, lightweight parcels and to letter-size pieces and flat-size pieces such as magazine and catalogs prepared in packages (several mailpieces presorted and secured together into a single unit). The APPS equipment represents the next generation of the Small Parcel and Bundle Sorter (SPBS) currently used by the Postal Service.

Barcoded pressure-sensitive package labels would be one method to support the use of the APPS, which the Postal Service plans to deploy beginning in 2004 in major processing and distribution centers to improve operational efficiency and increase workhour productivity. The use of these new labels would have no significant effect, however, on mail preparation standards and processes or on current mailer operations, especially mailer operations using optional endorsement lines (OELs) for designating the presort level of packages containing letter-size pieces or flat-size pieces. This proposed change would not replace OELs. In fact, mailers currently using OELs should continue using these cost-efficient information lines rather than converting to the use of pressure-sensitive package labels.

Automated Package Processing

With its large processing capacity, the APPS will replace current labor-intensive methods with more efficient automated methods that improve the sortation of parcels, Priority Mail envelopes, and presort destination packages of letter-size and flat-size mailpieces. The APPS contains several advanced features, including an integrated optical character/barcode reader with four-sided image capture. With this feature, the APPS can read and interpret information from properly prepared parcels and presort destination packages and automatically direct the parcels and presort packages to the appropriate bins.

Applying a pressure-sensitive package label to the top mailpiece in a presort package of banded mailpieces is one method that mailers use to indicate the sortation level for certain letter-size mail, flat-size mail, and small parcels that are required to be packaged before being placed into a tray or sack or placed onto a pallet. The proposed design changes to these presort labels would ensure that presort packages could be scanned and sorted automatically on the APPS.

Label Format Changes

The proposed changes affect the five pressure-sensitive package labels that mailers currently use. The size of the proposed rectangular labels would measure 3/4 inch wide by 1/2 inch high. Current scalloped-shaped pressure-sensitive package labels measure 7/8 inch wide and 1/2 inch high. A width-modulated barcode would appear on the right side of each label as a unique indicator of the sortation level. The bars of the barcode are 0.02 inch wide and 0.50 inch high. The rightmost bar ends 0.04 inch from the right edge of the label. Each new label would also contain a human-readable single alpha or numeric character to the left of the barcode, corresponding to the sortation level of the package as shown in the following table.

Package Labels—Sortation Characters and Colors
Sortation level | Label color | Approximate pantone equivalent | Presort character
Firm (Periodicals use only) | Blue | PMS 306 | F
5-digit | Red | PMS 811 | 5
3-digit | Green | PMS 373 | 3
ADC | Pink | PMS 224 | A
Mixed ADC | Tan | PMS 727 | X

The new label design would allow the APPS equipment to find and read the necessary information much more quickly, and the redundant information appearing on the redesigned labels would ensure a higher read rate and lower false positive rate as well as accommodate incidental label damage. The label could be placed anywhere on the address side of the package or the parcel for proper recognition, provided that opaque banding or strapping is not placed over the labels.

The proposed pressure-sensitive package labels would be the same color as the current labels. Besides the label shape, slightly smaller label size, and barcode, the only other changes would be the following:

• The alpha character “D” that appears on the current red labels for the 5-digit sortation level would be replaced with the numeric “5.”

• The alpha characters “MXD” that appear on the current tan labels for the mixed ADC sortation level would be replaced with the single alpha character “X.”

Label Availability and Use

The scheduled availability of the new pressure-sensitive package labels from the Postal Service (through existing procurement and supply sources) would be in late September 2003. Mailers would be permitted to begin using the new package labels as soon as they become available from their local post office. Effective January 1, 2004, however, mailers not using OELs would be required to use only the barcoded pressure-sensitive package labels rather than the nonbarcoded labels.

Editorial and Organizational Changes

This proposed rule also includes minor editorial revisions that clarify and standardize the text of mailing standards related to package preparation as follows:

• Unit M031. Clarification of label format used for the destination line (Line 1) for overseas military mail is made to the section on tray and sack labels and the section on pallet labels. Other sections throughout module M in the DMM for nonautomation mail now reference this section on overseas military mail.

• Unit M032. Clarification of label format used for the destination line (Line 1) for overseas military mail is made to the section on barcoded tray and sack labels. Other sections throughout module M in the DMM for automation rate mail now reference this section on overseas military mail. For the content identifier for presorted Standard Mail machinable and irregular parcels (content identifier number 603), the human-readable content line “STD MACH & IRREG 5D” is changed to “STD MACH-IRREG 5D.”

• Section M073.1.6. Presentation of sacking and labeling requirements for combined mailings of Standard Mail and Package Services parcels is standardized for simplicity and editorial consistency. Line 2 (content line) label information is now incorporated with requirements for preparation sequence, minimum sack size, and Line 1 labeling.

• Unit M130. Presentation of packaging, traying, sacking, and labeling requirements for Presorted First-Class Mail is standardized for simplicity and editorial consistency. Packaging requirements and exceptions to those requirements are also clarified.

• Part M210.2.0. Presentation of packaging and labeling requirements for presorted Periodicals mail is standardized for editorial consistency.

• Unit M610. Packaging requirements for presorted Standard Mail are clarified, and the mailing standards for flat-size pieces and irregular parcels are separated. Additional organizational changes are made for editorial consistency.

• Unit M722. Presentation of packaging, sacking, and labeling requirements for Bound Printed Matter is standardized throughout this unit.

• Unit M730. Presentation of packaging and labeling requirements for Media Mail is standardized for editorial consistency.

• Unit MM740. Presentation of packaging and labeling requirements for Library Mail is standardized for editorial consistency.

Although exempt from the notice and comment requirements of the Administrative Procedure Act [5 U.S.C. of 553(b), (c)] regarding proposed rulemaking by 39 U.S.C. 410(a), the Postal Service invites public comment on the following proposed revisions to the Domestic Mail Manual, incorporated in the Code of Federal Regulations. See 39 CFR 111.1.

List of Subjects in 39 CFR Part 111

Postal Service.

PART 111—[AMENDED]

1. The authority citation for 39 CFR part 111 continues to read as follows:

Authority: 5 U.S.C. 552(a); 39 U.S.C. 101, 401, 403, 404, 414, 416, 3001-3011, 3201-3219, 3403-3406, 3621, 3626, 5001.

2. Amend the following sections of the Domestic Mail Manual (DMM) as set forth below:

Domestic Mail Manual (DMM)

* * * * *

M Mail Preparation and Sortation

M000 General Preparation Standards

* * * * *

M030 Containers

M031 Labels

1.0 SACK AND TRAY LABELS

* * * * *

[Revise heading of 1.2 to read as follows:]

1.2 Line 1 (Destination Line)

[Revise 1.2 to read as follows:]

Line 1 (destination line) must meet these standards:

a. Placement. Line 1 must be the first visible line on the label. It must be completely visible and legible when placed in the label holder. This visibility is ensured if the top line is no less than 1/8 (0.125) inch below the top of the label when the label is cut and prepared.

b. Information. Line 1 must contain only the information specified by standard, including the appropriate destination facility prefix (e.g., “ADC”). Two zeros may follow 3-digit ZIP Code prefixes used as required by labeling standards.

c. Overseas Military Mail. On carrier route, 5-digit carrier routes, and 5-digit sacks and trays for overseas military destinations, the Line 1 label information shows, from left to right, “APO” or “FPO,” followed by “AE” (for ZIP Codes within the ZIP Code prefix range 090-098), “AA” (for ZIP Codes within the 3-digit ZIP Code prefix 340), or “AP” (for ZIP Codes within the 3-digit ZIP Code prefix range 962-966), followed by the destination 5-digit ZIP Code of the mail contained in the sack or tray.

[Revise heading of 1.3 to read as follows:]

1.3 Line 2 (Content Line)

* * * * *

[Revise heading of 1.4 to read as follows:]

1.4 Line 3 (Origin Line)

* * * * *

4.0 PALLET LABELS

* * * * *

[Revise heading of 4.5 to read as follows:]

4.5 Line 1 (Destination Line)

[Revise 4.5 to read as follows:]

Line 1 (destination line) must meet these standards:

a. Placement. Line 1 must be the first visible line on the label. It must be completely visible and legible when placed on the pallet. If the pallet label does not provide enough space for all required Line 1 information, the destination ZIP Code may be placed right-justified on the line immediately below the rest of Line 1 and above Line 2 (content line). A standard abbreviation for the destination city name may be used.

b. Information. Line 1 must contain only the information specified by standard, including the appropriate destination facility prefix (e.g., “ADC”). Two zeros may follow 3-digit ZIP Code prefixes used as required by labeling standards.

c. Overseas Military Mail. On 5-digit carrier routes and 5-digit pallets for overseas military destinations, the Line 1 label information shows, from left to right, “APO” or “FPO,” followed by “AE” (for ZIP Codes within the ZIP Code prefix range 090-098), “AA” (for ZIP Codes within the 3-digit ZIP Code prefix 340), or “AP” (for ZIP Codes within the 3-digit ZIP Code prefix range 962-966), followed by the destination 5-digit ZIP Code of the mail contained on the pallet.

[Revise heading of 4.6 to read as follows:]

4.6 Line 2 (Content Line)

* * * * *

[Revise heading of 4.7 to read as follows:]

4.7 Line 3 (Origin Line)

* * * * *

M032 Barcoded Labels

1.0 BASIC STANDARDS—TRAY AND SACK LABELS

* * * * *

[Revise heading of 1.2 to read as follows:]

1.2 Line 1 (Destination Line)

* * * * *

[Revise 1.2c to read as follows:]

c. Overseas Military Mail. On carrier route, 5-digit carrier routes, and 5-digit sacks and trays for overseas military destinations, the Line 1 label information shows, from left to right, “APO” or “FPO,” followed by “AE” (for ZIP Codes within the ZIP Code prefix range 090-098), “AA” (for ZIP Codes within the 3-digit ZIP Code prefix 340), or “AP” (for ZIP Codes within the 3-digit ZIP Code prefix range 962-966), followed by the destination 5-digit ZIP Code of the mail contained in the sack or tray.

[Revise heading of 1.3 to read as follows:]

1.3 Line 2 (Content Line)

* * * * *

[Change “STD MACH & IRREG 5D” to “STD MACH-IRREG 5D” in Exhibit 1.3 to read as follows:]

Class and mailing | CIN | Human-readable content line
* * * * * * *
STANDARD MAIL
* * * * * * *
STD Machinable and Irregular Parcels—Presorted
5-digit sacks | 603 | STD MACH-IRREG 5D
* * * * * * *

[Revise heading of 1.4 to read as follows:]

1.4 Line 3 (Origin Line)

* * * * *

M070 Mixed Classes

* * * * *

M073 Combined Mailings of Standard Mail and Package Services Parcels

1.0 COMBINED MACHINABLE PARCELS—RATES OTHER THAN PARCEL POST OBMC PRESORT, BMC PRESORT, DSCF, AND DDU

* * * * *

[Revise heading of 1.6 to read as follows:]

1.6 Sacking and Labeling

[Revise 1.6 to read as follows:]

Preparation sequence, sack size, and labeling:

a. 5-digit scheme (optional, but required for Standard Mail 3/5 rate eligibility); 10-piece or 20-pound minimum; labeling:

(1) Line 1: L606.

(2) Line 2: “STD/PSVC MACH 5D SCH.”

b. 5-digit (optional, but required for Standard Mail 3/5 rate eligibility); 10-piece or 20-pound minimum; labeling:

(1) Line 1: 5-digit ZIP Code on parcels (see M031 for overseas military mail).

(2) Line 2: “STD/PSVC MACH 5D.”

c. ASF (optional; allowed only for mail deposited at an ASF to claim DBMC rate); 10-piece or 20-pound minimum; labeling:

(1) Line 1: L602. DBMC rate eligibility determined by Exhibit E650.5.1 and Exhibit E751.1.3.

(2) Line 2: “STD/PSVC MACH ASF.”

d. BMC (required); 10-piece or 20-pound minimum; labeling:

(1) Line 1: L601. DBMC rate eligibility determined by Exhibit E650.5.1 and Exhibit E751.1.3.

(2) Line 2: “STD/PSVC MACH BMC.”

e. Mixed BMC (required); no minimum; labeling:

(1) Line 1: “MXD” followed by L601 Column B information for BMC serving 3-digit ZIP Code prefix of entry post office.

(2) Line 2: “STD/PSVC MACH WKG.”

* * * * *

M100 First-Class Mail (Nonautomation)

* * * * *

M130 Presorted First-Class Mail

* * * * *

2.0 PREPARATION—MACHINABLE LETTER-SIZE PIECES

* * * * *

[Revise heading of 2.2 to read as follows:]

2.2 Traying and Labeling

[Revise 2.2 to read as follows:]

Preparation sequence, tray size, and labeling:

a. 5-digit (optional); full trays (no overflow); labeling:

(1) Line 1: city, state, and 5-digit ZIP Code on mail (see M031 for overseas military mail).

(2) Line 2: “FCM LTR 5D MACH.”

b. 3-digit (required); full trays (no overflow), except for one less-than-full tray for each origin 3-digit(s); labeling:

(1) Line 1: L002, Column A.

(2) Line 2: “FCM LTR 3D MACH.”

c. AADC (required); full trays (no overflow), with pieces grouped by 3-digit ZIP Code prefix; labeling:

(1) Line 1: L801.

(2) Line 2: “FCM LTR AADC MACH.”

d. Mixed AADC (required); no minimum, with pieces grouped by AADC; labeling:

(1) Line 1: “MXD” followed by city, state, and 3-digit ZIP Code prefix of facility serving 3-digit ZIP Code prefix of entry office, as shown in L002, Column C.

(2) Line 2: “FMC LTR MACH WKG.”

3.0 PREPARATION—NONMACHINABLE LETTER-SIZE PIECES

[Revise heading of 3.1 to read as follows:]

3.1 Packaging and Labeling

[Revise 3.1 to read as follows:]

Except as provided in M020.1.9, packaging is required before traying. A package must be prepared when the quantity of addressed pieces for a required presort level reaches a minimum of 10 pieces. Smaller volumes are not permitted except for mixed ADC packages. Mailers who prefer that the USPS not automate letter-size pieces must also identify each package with a facing slip marked “MANUAL ONLY” or use a “MANUAL ONLY” optional endorsement line (see M013). Preparation sequence, package size, and labeling:

a. 5-digit (required); 10-piece minimum; red Label 5 or optional endorsement line (OEL); labeling not required for pieces in full 5-digit trays.

b. 3-digit (required); 10-piece minimum; green Label 3 or OEL.

c. ADC (required); 10-piece minimum; pink Label A or OEL.

d. Mixed ADC (required); no minimum; tan Label X or OEL.

[Remove current 3.2 and redesignate current 3.3 as new 3.2; revise heading of new 3.2 to read as follows:]

3.2 Traying and Labeling

[Revise 3.2 to read as follows:]

Preparation sequence, tray size, and labeling:

a. 5-digit (required); full trays (no overflow); labeling:

(1) Line 1: city, state, and ZIP Code on packages (see M031 for overseas military mail).

(2) Line 2: “FCM LTR 5D MANUAL.”

b. 3-digit (required); full trays (no overflow), except for one less-than-full tray for each origin 3-digit(s); labeling:

(1) Line 1: L002, Column A.

(2) Line 2: “FCM LTR 3D MANUAL.”

c. ADC (required); full trays (no overflow); labeling:

(1) Line 1: L004.

(2) Line 2: “FCM LTR ADC MANUAL.”

d. Mixed ADC (required); no minimum; labeling:

(1) Line 1: “MXD” followed by city, state, and 3-digit ZIP Code prefix of facility serving 3-digit ZIP Code prefix of entry post office, as shown in L002, Column C.

(2) Line 2: “FCM LTR MANUAL WKG.”

[Revise heading of 4.0 to read as follows:]

4.0 PREPARATION—FLAT-SIZE PIECES

[Revise heading of 4.1 to read as follows:]

4.1 Packaging and Labeling

[Revise 4.1 to read as follows:]

Except as provided in M020.1.9, packaging is required before traying. A package must be prepared when the quantity of addressed pieces for a required presort level reaches a minimum of 10 pieces. Smaller volumes are not permitted except for mixed ADC packages. Preparation sequence, package size, and labeling:

[Change in 4.1a “red Label D” with “red Label 5”; change in 4.1d “tan Label MXD” with “tan Label X” to read as follows:]

a. 5-digit (required); 10-piece minimum; red Label 5 or optional endorsement line (OEL).

b. 3-digit (required); 10-piece minimum; green Label 3 or OEL.

c. ADC (required); 10-piece minimum; pink Label A or OEL.

d. Mixed ADC (required); no minimum; tan Label X or OEL.

[Remove current 4.2 and redesignate current 4.3 as new 4.2; revise heading of new 4.2 to read as follows:]

4.2 Traying and Labeling

[Revise new 4.2 to read as follows:]

Preparation sequence, tray size, and labeling:

a. 5-digit (required); full trays (no overflow); labeling:

(1) Line 1: city, state, and 5-digit ZIP Code on packages (see M031 for overseas military mail).

(2) Line 2: “FCM FLTS 5D NON BC.”

b. 3-digit (required); full trays (no overflow), except for one less-than-full tray for each origin 3-digit(s); labeling:

(1) Line 1: L002, Column A.

(2) Line 2: “FCM FLTS 3D NON BC.”

c. ADC (required); full trays (no overflow); labeling:

(1) Line 1: L004.

(2) Line 2: “FCM FLTS ADC NON BC.”

d. Mixed ADC (required); no minimum; labeling:

(1) Line 1: “MXD” followed by city, state, and 3-digit ZIP Code prefix of facility serving 3-digit ZIP Code prefix of entry post office, as shown in L002, Column C.

(2) Line 2: “FCM FLTS NON BC WKG.”

[Remove current 4.4.]

[Revise heading of 5.0 to read as follows:]

5.0 PREPARATION—PARCELS

[Remove 5.1 and redesignate current 5.2 as new 5.1; revise heading of new 5.1 to read as follows:]

5.1 Packaging and Labeling

[Revise new 5.1 to read as follows:]

Packaging is generally required before sacking. A package must be prepared when the quantity of addressed pieces for a required presort level reaches a minimum of 10 pieces. Smaller volumes are not permitted except for mixed ADC packages. Packaging is not required for pieces ½ inch thick or more if they are placed in a sack to the same destination to which they would otherwise be packaged (e.g., in a 3-digit sack rather than in a 3-digit package). Preparation sequence, package size, and labeling:

a. 5-digit (required); 10-piece minimum; red Label 5 or optional endorsement line (OEL).

b. 3-digit (required); 10-piece minimum; green Label 3 or OEL.

c. ADC (required); 10-piece minimum; pink Label A or OEL.

d. Mixed ADC (required); no minimum; tan Label X or OEL.

[Redesignate current 5.3 as new 5.2; revise heading of new 5.2 to read as follows:]

5.2 Sacking and Labeling

[Revise new 5.2 to read as follows:]

Preparation sequence, sack size, and labeling:

a. 5-digit (required); 10-pound minimum; labeling:

(1) Line 1: city, state, and 5-digit ZIP Code on packages or unpackaged parcels, if applicable (see M031 for overseas military mail).

(2) Line 2: “FCM PARCELS 5D.”

b. 3-digit (required); 10-pound minimum, except for required origin 3-digit(s); labeling:

(1) Line 1: L002, Column A.

(2) Line 2: “FCM PARCELS 3D.”

c. ADC (required); 10-pound minimum; labeling:

(1) Line 1: L004.

(2) Line 2: “FCM PARCELS ADC.”

d. Mixed ADC (required); no minimum; labeling:

(1) Line 1: “MXD” followed by city, state, and 3-digit ZIP Code prefix of facility serving 3-digit ZIP Code prefix of entry post office, as shown in L002, Column C.

(2) Line 2: “FCM PARCELS WKG.”

[Delete current 5.4.]

* * * * *

M200 Periodicals (Nonautomation)

M210 Presorted Periodicals

* * * * *

2.0 PACKAGE PREPARATION

[Revise 2.0 by combining current 2.1 and 2.2 to read as follows:]

Packaging is required before traying or sacking. A package must be prepared when the quantity of addressed pieces for a required presort level reaches the minimum package size. Smaller volumes are not permitted except mixed ADC packages and 5-digit and 3-digit packages prepared under 1.5. Packaging is also subject to M020. Preparation sequence, package size, and labeling:

a. Firm (optional); two-piece minimum; blue Label F or optional endorsement line (OEL).

b. 5-digit (required); six-piece minimum; red Label 5 or OEL; labeling optional for pieces in full 5-digit trays.

c. 3-digit (required); six-piece minimum; green Label 3 or OEL.

d. ADC (required); six-piece minimum; pink Label A or OEL.

e. Mixed ADC (required); no minimum; tan Label X or OEL.

[Revise heading of 3.0 to read as follows:]

3.0 TRAY PREPARATION—LETTER-SIZE PIECES

[Revise introductory text to read as follows:]

Preparation sequence, tray size, and labeling:

* * * * *

[Revise 3.0a(1) to read as follows:]

* * * * *

(1) Line 1: use city, state and 5-digit ZIP Code on packages (see M031 for overseas military mail).

* * * * *

[Revise heading of 4.0 to read as follows:]

4.0 SACK PREPARATION—FLAT-SIZE PIECES AND IRREGULAR PARCELS

[Revise second sentence in introductory text to read as follows:]

* * * For other mailing jobs, preparation sequence, tray size, and labeling:

* * * * *

[Revise 4.0a(1) to read as follows:]

* * * * *

(1) Line 1: use city, state and 5-digit ZIP Code on packages (see M031 for overseas military mail).

* * * * *

M220 Carrier Route Periodicals

* * * * *

2.0 PACKAGE PREPARATION

* * * * *

[Revise heading of 2.4 to read as follows:]

2.4 Packaging and Labeling

[Revise 2.4 to read as follows:]

Preparation sequence, package size, and labeling:

a. Firm (optional); two-piece minimum; blue Label F or optional endorsement line (OEL).

b. Carrier route (optional, but required for rate eligibility); six-piece minimum (fewer permitted under 1.5); labeling required (facing slip, OEL, or carrier route information line) except for packages placed in a direct carrier route tray or sack.

[Revise heading of 3.0 to read as follows:]

3.0 PREPARATION—LETTER-SIZE PIECES

[Revise introductory text to read as follows:]

Preparation sequence, tray size, and labeling:

* * * * *

[Revise 3.0a(1) to read as follows:]

* * * * *

(1) Line 1: use city, state and 5-digit ZIP Code on packages (see M031 for overseas military mail).

* * * * *

[Revise heading of 4.0 to read as follows:]

4.0 PREPARATION—FLAT-SIZE PIECES AND IRREGULAR PARCELS

[Revise introductory text to read as follows:]

Preparation sequence, sack size, and labeling:

* * * * *

[Revise 4.0a(1) to read as follows:]

* * * * *

(1) Line 1: use city, state and 5-digit ZIP Code on packages (see M031 for overseas military mail).

* * * * *

M600 Standard Mail (Nonautomation)

M610 Presorted Standard Mail

* * * * *

2.0 PREPARATION—MACHINABLE LETTER-SIZE PIECES

* * * * *

2.2 Traying and Labeling

* * * * *

[Revise 2.2a(1) to read as follows:]

(1) Line 1: city, state, and 5-digit ZIP Code on mail (see M031 for overseas military mail).

* * * * *

3.0 PREPARATION—NONMACHINABLE LETTER-SIZE PIECES

[Revise heading of 3.1 to read as follows:]

3.1 Packaging and Labeling

[Revise 3.1 to read as follows:]

Except as provided in M020.1.9, packaging is required before traying. A package must be prepared when the quantity of addressed pieces for a required presort level reaches a minimum of 10 pieces. Smaller volumes are not permitted except for mixed ADC packages. Mailers who prefer that the USPS not automate letter-size pieces must also identify each package with a facing slip marked “MANUAL ONLY” or use a “MANUAL ONLY” optional endorsement line (see M013). Preparation sequence, package size, and labeling:

[Change in 3.1a “red Label D” to “red Label 5”; change in 3.1d “tan Label MXD” to “tan Label X”;]

[Remove current 3.2 and redesignate current 3.3 as new 3.2.]

* * * * *

3.2 Traying and Labeling

* * * * *

[Revise 3.2a(1) to read as follows:]

(1) Line 1: city, state, and 5-digit ZIP Code on packages (see M031 for overseas military mail).

* * * * *

[Revise 4.0 by moving mailing standards for irregular parcels to new 5.0; redesignate current 5.0 as new 6.0; revise current 4.0 to read as follows:]

4.0 PREPARATION—FLAT-SIZE PIECES

4.1 Required Packaging

Except as provided in 4.3, packaging is required before sacking. A package must be prepared when the quantity of addressed pieces for a required presort level reaches the required minimum package size. Smaller volumes are not permitted except for mixed ADC packages.

4.2 Packaging and Labeling

Preparation sequence, package size, and labeling:

a. 5-digit (required); 17-piece minimum, optional 10-to 16-piece minimum (one consistent minimum required for a mailing job); red Label 5 or optional endorsement line (OEL).

b. 3-digit (required); 10-piece minimum; green Label 3 or OEL.

c. ADC (required); 10-piece minimum; pink Label A or OEL.

d. Mixed ADC (required); no minimum; tan Label X or OEL.

4.3 Loose Packing

District managers may authorize loose packing of unpackaged pieces to fill Number 3 sacks if no pieces in a sack would be more finely sorted if packaged. Pieces must be faced and packed to remain oriented in transit. The total weight of sacks containing such pieces may not exceed 70 pounds. Requests for loose packing must be made through the post office of mailing.

4.4 Required Sacking

Except as provided in 4.5, a sack, or a letter tray under M033, must be prepared when the quantity of mail for a required presort destination reaches either 125 pieces or 15 pounds of pieces, whichever occurs first, subject to these conditions:

a. For identical-weight pieces, a single-piece weight of 1.92 ounces (0.12 pound) results in 125 pieces weighing 15 pounds. Identical-weight pieces weighing 1.92 ounces (0.12 pound) or less must be prepared using the 125-piece minimum. Pieces weighing more must be prepared using the 15-pound minimum.

b. For nonidentical-weight pieces, mailers must apply either one of these methods:

(1) The minimum that applies to the average piece weight for the entire mailing is used. The net weight of the mailing is divided by the number of pieces and the resulting average single-piece weight is used to determine whether the 125-piece or 15-pound minimum applies.

(2) The actual piece count or mail weight for each sack is used, if documentation can be provided with the mailing that shows for each sack the number of pieces and the total weight.

c. The accompanying postage statement must indicate whether the 125-piece minimum, the 15-pound minimum, or both minimums are applied.

4.5 Drop Shipment

A mailer using Priority Mail or Express Mail to dropship Standard Mail flat-size pieces may prepare sacks containing fewer than 125 pieces or less than 15 pounds of mail.

4.6 Sacking and Labeling

Preparation sequence, sack size, and labeling:

a. 5-digit (required); 125-piece or 15-pound minimum; labeling:

(1) Line 1: city, state, and 5-digit ZIP Code on packages (see M031 for overseas military mail).

(2) Line 2: “STD FLTS 5D NON BC.”

b. 3-digit (required); 125-piece or 15-pound minimum; labeling:

(1) Line 1: L002, Column A.

(2) Line 2: “STD FLTS 3D NON BC.”

c. Origin 3-digit(s) (required) and entry 3-digit(s) (optional); one-package minimum (for origin and entry); labeling:

(1) Line 1: L002, Column A.

(2) Line 2: “STD FLTS 3D NON BC.”

d. ADC (required); 125-piece or 15-pound minimum; labeling:

(1) Line 1: L004.

(2) Line 2: “STD FLTS ADC NON BC.”

e. Mixed ADC (required); no minimum; labeling:

(1) Line 1: “MXD” followed by city, state, and ZIP Code of ADC serving 3-digit ZIP Code prefix of entry post office as shown in L004; if placed on an ASF or BMC pallet under option in M045.3.2, L802.

(2) Line 2: “STD FLTS NON BC WKG.”

#[Redesignate current 5.0 as new 6.0 and add new 5.0 to read as follows:]

5.0 PREPARATION—IRREGULAR PARCELS

5.1 Required Packaging

Except as provided in 5.3 and 5.5, packaging is required before sacking. A package must be prepared when the quantity of addressed pieces for a required presort level reaches the required minimum package size. Smaller volumes are not permitted except for mixed ADC packages and packages prepared under 5.4.

5.2 Packaging and Labeling

Preparation sequence, package size, and labeling:

a. 5-digit (required); 10-piece minimum; red Label 5 or optional endorsement line (OEL).

b. 3-digit (required); 10-piece minimum; green Label 3 or OEL.

c. ADC (required); 10-piece minimum; pink Label A or OEL.

d. Mixed ADC (required); no minimum; tan Label X or OEL.

5.3 Packaging Exceptions

Packaging is not required for irregular parcels under any of these conditions:

a. The parcels are ½ inch thick or greater and placed in a sack to the same destination to which they would otherwise be packaged (e.g., in a 3-digit sack rather than a 3-digit package).

b. The parcels are so large that 10 or fewer fill a sack.

c. The parcels are in a 5-digit scheme or 5-digit sack containing both machinable and irregular parcels. Sacks containing both machinable and irregular parcels may not be prepared to other presort levels.

5.4 Commingling Irregular Parcel Mailings

Business Mailer Support (BMS) (see G043 for address) may authorize the commingling of several permit imprint mailings of irregular parcels to achieve a finer presort if the payment of proper postage can be documented. BMS may waive minimum quantity standards for preparation of 5-digit and 3-digit packages if doing so results in a finer preparation of at least 50% of the mail.

5.5 Loose Packing

District managers may authorize loose packing of unpackaged pieces to fill Number 3 sacks if no pieces in a sack would be more finely sorted if packaged. Pieces must be faced and packed to remain oriented in transit. The total weight of sacks containing such pieces may not exceed 70 pounds. Requests for loose packing must be made through the post office of mailing.

5.6 Required Sacking

Except as provided in 5.7, a sack must be prepared when the quantity of mail for a required presort destination reaches either 125 pieces or 15 pounds of pieces, whichever occurs first, subject to these conditions:

a. For identical-weight pieces, a single-piece weight of 1.92 ounces (0.12 pound) results in 125 pieces weighing 15 pounds. Identical-weight pieces weighing 1.92 ounces (0.12 pound) or less must be prepared using the 125-piece minimum. Pieces weighing more must be prepared using the 15-pound minimum.

b. For nonidentical-weight pieces, mailers must apply either one of these methods:

(1) The minimum that applies to the average piece weight for the entire mailing is used. The net weight of the mailing is divided by the number of pieces and the resulting average single-piece weight is used to determine whether the 125-piece or 15-pound minimum applies.

(2) The actual piece count or mail weight for each sack is used, if documentation can be provided with the mailing that shows for each sack the number of pieces and the total weight.

c. The accompanying postage statement must indicate whether the 125-piece minimum, the 15-pound minimum, or both minimums are applied.

5.7 Drop Shipment

A mailer using Priority Mail or Express Mail to dropship Standard Mail irregular parcels may prepare sacks containing fewer than 125 pieces or less than 15 pounds of mail.

5.8 Sacking and Labeling

Preparation sequence, sack size, and labeling:

a. 5-digit scheme (optional), as applicable:

(1) Irregular parcels: 125-piece or 15-pound minimum; labeling for Line 1, L606; for Line 2, “STD IRREG 5D SCHEME” or “STD IRREG 5D SCH.”

(2) Commingled machinable and irregular parcels: no minimum; labeling for Line 1, L606; for Line 2, “STD MACH-IRREG 5D SCH.”

b. 5-digit (required), as applicable:

(1) Irregular parcels: 125-piece or 15-pound minimum; labeling for Line 1, city, state, and 5-digit ZIP Code on packages (see M031 for overseas military mail); for Line 2, “STD IRREG 5D.”

(2) Commingled machinable and irregular parcels: required at 10 pounds; labeling for Line 1, city, state, and 5-digit ZIP Code on packages (see M031 for overseas military mail); for Line 2, “STD MACH-IRREG 5D.”

c. 3-digit (required); 125-piece or 15-pound minimum; labeling:

(1) Line 1: L002, Column A.

(2) Line 2: “STD IRREG 3D.”

d. Origin 3-digit(s) (required) and entry 3-digit(s) (optional); one-package minimum (for origin and entry); labeling:

(1) Line 1: L002, Column A.

(2) Line 2: “STD IRREG 3D.”

e. ADC (required); 125-piece or 15-pound minimum; labeling:

(1) Line 1: L004.

(2) Line 2: “STD IRREG ADC.”

f. Mixed ADC (required); no minimum; labeling:

(1) Line 1: “MXD” followed by city, state, and ZIP Code of ADC serving 3-digit ZIP Code prefix of entry post office as shown in L604.

(2) Line 2: “STD IRREG WKG.”

6.0 PREPARATION—MACHINABLE PARCELS

* * * * *

[Change heading of redesignated 6.2 to read as follows:]

6.2 Sacking and Labeling

* * * * *

M620 Enhanced Carrier Route Standard Mail

* * * * *

3.0 PREPARATION—LETTER-SIZE PIECES

3.1 Required Tray Preparation

* * * * *

[Revise 3.1a(1) to read as follows:]

(1) Line 1: city, state, and 5-digit ZIP Code on packages (see M031 for overseas military mail).

* * * * *

[Revise 3.1b(1) to read as follows:]

(1) Line 1: city, state, and 5-digit ZIP Code on packages (see M031 for overseas military mail).

* * * * *

[Revise heading of 3.2 to read as follows:]

3.2 Alternative Line 2 Information

For trays containing nonbarcoded or nonmachinable letter-size pieces, these Line 2 label designations are used in place of “BC':

a. Trays containing nonbarcoded machinable pieces: “MACH.”

b. Trays containing nonmachinable pieces: “MAN.”

c. Trays containing simplified address pieces: “MAN.”

[Delete current 3.3 and 3.4.]

4.0 PREPARATION—FLATS

* * * * *

4.2 Sack Preparation

[Revise introductory text to read as follows:]

Preparation sequence, sack size, and labeling:

* * * * *

[Revise 4.2a(1) to read as follows:]

(1) Line 1: city, state, and 5-digit ZIP Code on packages (see M031 for overseas military mail).

* * * * *

[Revise 4.2c(1) to read as follows:]

(1) Line 1: city, state, and 5-digit ZIP Code on packages (see M031 for overseas military mail).

* * * * *

5.0 PREPARATION—IRREGULAR PARCELS

* * * * *

5.2 Sack Preparation

[Revise introductory text to read as follows:]

Preparation sequence, sack size, and labeling:

* * * * *

[Revise 5.2a(1) to read as follows:]

(1) Line 1: city, state, and 5-digit ZIP Code on packages (see M031 for overseas military mail).

* * * * *

[Revise 5.2b(1) to read as follows:]

(1) Line 1: city, state, and 5-digit ZIP Code on packages (see M031 for overseas military mail).

* * * * *

M700 Package Services

M710 Parcel Post

* * * * *

2.0 DSCF RATE

* * * * *

[Revise heading of 2.2 to read as follows:]

2.2 DSCF Sacking and Labeling

* * * * *

[Revise 2.2d to read as follows:]

d. 5-digit sack labeling: Line 1, use city, state, and 5-digit ZIP Code on parcels (see M031 for overseas military mail); for Line 2, “PSVC PARCELS 5D.”

* * * * *

3.0 DDU RATE

* * * * *

[Revise 3.0e(2) to read as follows:]

(2) 5-digit sack labeling: Line 1, use city, state, and 5-digit ZIP Code on parcels (see M031 for overseas military mail); for Line 2, “PSVC PARCELS 5D.”

* * * * *

M720 Bound Printed Matter

* * * * *

M722 Presorted Bound Printed Matter

* * * * *

2.0 REQUIRED PREPARATION—FLATS

* * * * *

[Revise heading of 2.2 to read as follows:]

2.2 Packaging and Labeling

[Revise 2.2 to read as follows:]

Packaging is required before sacking. Preparation sequence and labeling:

a. 5-digit (required); red Label 5 or optional endorsement line (OEL).

b. 3-digit (required); green Label 3 or OEL.

c. ADC (required); pink Label A or OEL.

d. Mixed ADC (required); tan Label X or OEL.

* * * * *

[Revise heading of 2.4 to read as follows:]

2.4 Sacking and Labeling

[Revise 2.4 to read as follows:]

Preparation sequence and labeling:

a. 5-digit (required); labeling:

(1) Line 1: city, state, and 5-digit ZIP Code on packages (see M031 for overseas military mail).

(2) Line 2: “PSVC FLTS 5D NON BC.”

b. 3-digit (required); labeling:

(1) Line 1: L002, Column A.

(2) Line 2: “PSVC FLTS 3D NON BC.”

c. SCF (optional); labeling:

(1) Line 1: L005.

(2) Line 2: “PSVC FLTS SCF NON BC.”

d. ADC (required); labeling:

(1) Line 1: L004.

(2) Line 2: “PSVC FLTS ADC NON BC.”

e. Mixed ADC (required); labeling:

(1) Line 1: “MXD” followed by city, state, and ZIP Code of ADC serving 3-digit ZIP Code prefix of entry post office, as shown in L004.

(2) Line 2: “PSVC FLTS NON BC WKG.”

[Delete current 2.5.]

3.0 REQUIRED PREPARATION—IRREGULAR PARCELS WEIGHING LESS THAN 10 POUNDS

* * * * *

[Revise heading of 3.2 to read as follows:]

3.2 Packaging and Labeling

[Revise 3.2 to read as follows:]

Except as provided in 3.1, packaging is required before sacking. Preparation sequence and labeling:

a. 5-digit (required); red Label 5 or optional endorsement line (OEL).

b. 3-digit (required); green Label 3 or OEL.

c. ADC (required); pink Label A or OEL.

d. Mixed ADC (required); tan Label X or OEL.

3.3 Required Sacking

[Revise 3.3 by adding current 3.6 before last sentence of introductory paragraph to read as follows:]

* * * Sacking is not required for 5-digit packages when prepared for and entered at DDU rates. Such packages may be bedloaded and may weigh up to 40 pounds. Sacking is also subject to these conditions:

* * * * *

[Revise heading of 3.4 to read as follows:]

3.4 Sacking and Labeling

[Revise 3.4 to read as follows:]

Preparation sequence and labeling:

a. 5-digit scheme (optional); labeling:

(1) Line 1: L606.

(2) Line 2: “PSVC IRREG 5D SCHEME” or “PSVC IRREG 5D SCH.”

b. 5-digit (required); labeling:

(1) Line 1: city, state, and 5-digit ZIP Code on parcels (see M031 for overseas military mail).

(2) Line 2: “PSVC IRREG 5D.”

c. 3-digit (required); labeling:

(1) Line 1: L002, Column A.

(2) Line 2: “PSVC IRREG 3D.”

d. SCF (optional); labeling:

(1) Line 1: L005.

(2) Line 2: “PSVC IRREG SCF.”

e. ADC (required); labeling:

(1) Line 1: L004.

(2) Line 2: “PSVC IRREG ADC.”

f. Mixed ADC (required); labeling:

(1) Line 1: “MXD” followed by city, state, and ZIP Code of ADC serving 3-digit ZIP Code prefix of entry post office, as shown in L004.

(2) Line 2: “PSVC IRREG WKG.”

[Delete 3.5 and 3.6.]

4.0 REQUIRED PREPARATION—IRREGULAR PARCELS WEIGHING 10 POUNDS OR MORE

* * * * *

4.2 Required Sacking

[Revise 4.2 by adding current 4.5 to end of 4.2 to read as follows:]

* * * Sacking is not required for 5-digit packages when prepared for and entered at DDU rates. Such packages may be bedloaded and may weigh up to 40 pounds.

[Revise heading of 4.3 to read as follows:]

4.3 Sacking and Labeling

[Revise 4.3 to read as follows:]

Preparation sequence and labeling:

a. 5-digit scheme (optional); labeling:

(1) Line 1: L606.

(2) Line 2: “PSVC IRREG 5D SCHEME” or “PSVC IRREG 5D SCH.”

b. 5-digit (required); labeling:

(1) Line 1: city, state, and 5-digit ZIP Code destination on parcels (see M031 for overseas military mail).

(2) Line 2: “PSVC IRREG 5D.”

c. 3-digit (required); labeling:

(1) Line 1: L002, Column A.

(2) Line 2: “PSVC IRREG 3D.”

d. SCF (optional); labeling:

(1) Line 1: L005.

(2) Line 2: “PSVC IRREG SCF.”

e. ADC (required); labeling:

(1) Line 1: L004.

(2) Line 2: “PSVC IRREG ADC.”

f. Mixed ADC (required); labeling:

(1) Line 1: “MXD” followed by city, state, and ZIP Code of ADC serving 3-digit ZIP Code prefix of entry post office, as shown in L004.

(2) Line 2: “PSVC IRREG WKG.”

[Delete 4.4 and 4.5.]

5.0 REQUIRED PREPARATION—MACHINABLE PARCELS

[Revise heading of 5.1 to read as follows:]

5.1 DBMC Rates Not Claimed—Required Sacking

* * * * *

[Revise heading of 5.2 to read as follows:]

5.2 DBMC Rates Not Claimed—Sacking and Labeling

[Revise 5.2 by combining with current 5.3 to read as follows:]

Preparation sequence, labeling:

a. 5-digit scheme (optional); labeling:

(1) Line 1: L606.

(2) Line 2: “PSVC MACH 5D SCHEME” or “PSVC MACH 5D SCH.”

b. 5-digit (required); labeling:

(1) Line 1: city, state, and 5-digit ZIP Code on parcels (see M031 for overseas military mail).

(2) Line 2: “PSVC MACH 5D.”

c. BMC (required); labeling:

(1) Line 1: L601.

(2) Line 2: “PSVC MACH BMC.”

d. Mixed BMC (required); labeling:

(1) Line 1: “MXD” followed by L601 Column B information, for BMC serving 3-digit ZIP Code prefix of entry post office.

(2) Line 2: “PSVC MACH WKG.”

[Redesignate current 5.4, 5.5, and 5.6 as new 5.3, 5.4, and 5.5, respectively.]

[Revise heading of new 5.3 to read as follows:]

5.3 DMBC Rates—Required Sacking

* * * * *

[Revise heading of new 5.4 to read as follows:]

5.4 DBMC Rates—Sacking and Labeling

[Revise 5.4 by combining with new 5.5 to read as follows:]

Preparation sequence and labeling:

a. 5-digit scheme (optional); labeling:

(1) Line 1: L606.

(2) Line 2: “PSVC MACH 5D SCHEME” or “PSVC MACH 5D SCH.”

b. 5-digit (required); labeling:

(1) Line 1: city, state, and 5-digit ZIP Code on parcels (see M031 for overseas military mail).

(2) Line 2: “PSVC MACH 5D.”

c. ASF (optional, allowed only for mail deposited at an ASF to claim DBMC rate); labeling:

(1) Line 1: L602. DBMC rate eligibility determined by E752 and Exhibit E751.1.3.

(2) Line 2: “PSVC MACH ASF.”

d. BMC (required); labeling:

(1) Line 1: L601. DBMC rate eligibility determined by E752 and Exhibit E751.1.3.

(2) Line 2: “PSVC MACH BMC.”

e. Mixed BMC (required); labeling:

(1) Line 1: “MXD” followed by information in L601, Column B, for BMC serving 3-digit ZIP Code prefix of entry post office.

(2) Line 2: “PSVC MACH WKG.”

M723 Carrier Route Bound Printed Matter

* * * * *

[Revise heading of 2.0 to read as follows:]

2.0 PREPARATION—FLATS

* * * * *

2.3 Sack Preparation

* * * * *

[Revise 2.3a to read as follows:]

a. Carrier route: required; for Line 1, use city, state, and 5-digit ZIP Code on packages (see M031 for overseas military mail).

* * * * *

[Revise heading of 3.0 to read as follows:]

3.0 PREPARATION—IRREGULAR PARCELS WEIGHING LESS THAN 10 POUNDS

* * * * *

3.3 Sack Preparation

* * * * *

[Revise 3.3a to read as follows:]

a. Carrier route: required; for Line 1, use city, state, and 5-digit ZIP Code on packages (see M031 for overseas military mail).

* * * * *

[Revise heading of 4.0 to read as follows:]

4.0 PREPARATION—IRREGULAR PARCELS WEIGHING 10 POUNDS OR MORE

* * * * *

[Revise heading of 5.0 to read as follows:]

5.0 PREPARATION—MACHINABLE PARCELS

* * * * *

M730 Media Mail

* * * * *

2.0 PREPARATION—FLATS

[Revise heading of 2.1 to read as follows:]

2.1 Required Packaging

[Revise second sentence in 2.1 to read as follows:]

* * * Smaller volumes are not permitted except for mixed ADC packages. * * *

* * * * *

[Revise heading of 2.2 to read as follows:]

2.2 Packaging and Labeling

[Revise 2.2 to read as follows:]

Preparation sequence, package size, and labeling:

a. 5-digit (optional, but required for 5-digit rate eligibility); 10-piece minimum; red Label 5 or optional endorsement line (OEL).

b. 3-digit (required); 10-piece minimum; green Label 3 or OEL.

c. ADC (required); 10-piece minimum; pink Label A or OEL.

d. Mixed ADC (required); no minimum; tan Label X or OEL.

[Revise heading of 2.3 to read as follows:]

2.3 Required Sacking

* * * * *

[Revise heading of 2.4 to read as follows:]

2.4 Sacking and Labeling

[Revise introductory text to read as follows:]

Preparation sequence, sack size, and labeling:

* * * * *

[Revise 2.4a(1) to read as follows:]

(1) Line 1: use city, state, and 5-digit ZIP Code on packages (see M031 for overseas military mail).

* * * * *

3.0 PREPARATION—IRREGULAR PARCELS

[Revise heading of 3.1 to read as follows:]

3.1 Required Packaging

[Revise the first sentence of 3.1 to read as follows:]

A package must be prepared when the quantity of addressed pieces for a required presort level reaches a minimum of 10 pieces. Smaller volumes are not permitted except for mixed ADC packages. Packaging is not required for pieces placed in 5-digit scheme sacks and 5-digit sacks when such pieces are enclosed in an envelope, full-length sleeve, full-length wrapper, or polybag and the minimum package volume is met. * * *

* * * * *

[Revise heading of 3.2 to read as follows:]

3.2 Packaging and Labeling

[Revise 3.2 to read as follows:]

Preparation sequence, package size, and labeling:

a. 5-digit (optional, but required for 5-digit rate eligibility); 10-piece minimum; red Label 5 or optional endorsement line (OEL).

b. 3-digit (required); 10-piece minimum; green Label 3 or OEL.

c. ADC (required); 10-piece minimum; pink Label A or OEL.

d. Mixed ADC (required); no minimum; tan Label X or OEL.

[Revise heading of 3.3 to read as follows:]

3.3 Required Sacking

* * * * *

[Revise heading of 3.4 to read as follows:]

3.4 Sacking and Labeling

[Revise introductory text to read as follows:]

Preparation sequence and labeling:

* * * * *

[Revise 3.4b(1) to read as follows:]

(1) Line 1: use city, state, and 5-digit ZIP Code on packages (see M031 for overseas military mail).

* * * * *

4.0 PREPARATION—MACHINABLE PARCELS

[Revise heading of 4.1 to read as follows:]

4.1 Required Sacking

* * * * *

[Revise heading of 4.2 to read as follows:]

4.2 Sacking and Labeling

[Revise introductory text to read as follows:]

Preparation sequence and labeling:

* * * * *

[Revise 4.2b(1) to read as follows:]

(1) Line 1: use city, state, and 5-digit ZIP Code on parcels (see M031 for overseas military mail).

* * * * *

M740 Library Mail

* * * * *

2.0 PREPARATION—FLATS

[Revise heading of 2.1 to read as follows:]

2.1 Required Packaging

[Revise second sentence in 2.1 to read as follows:]

* * * Smaller volumes are not permitted except for mixed ADC packages. * * *

* * * * *

[Revise heading of 2.2 to read as follows:]

2.2 Packaging and Labeling

[Revise 2.2 to read as follows:]

Preparation sequence, package size, and labeling:

a. 5-digit (optional, but required for 5-digit rate eligibility); 10-piece minimum; red Label 5 or optional endorsement line (OEL).

b. 3-digit (required); 10-piece minimum; green Label 3 or OEL.

c. ADC (required); 10-piece minimum; pink Label A or OEL.

d. Mixed ADC (required); no minimum; tan Label X or OEL.

[Revise heading of 2.3 to read as follows:]

2.3 Required Sacking

* * * * *

[Revise heading of 2.4 to read as follows:]

2.4 Sacking and Labeling

[Revise introductory text to read as follows:]

Preparation sequence, sack size, and labeling:

* * * * *

[Revise 2.4a(1) to read as follows:]

(1) Line 1: use city, state, and 5-digit ZIP Code on packages (see M031 for overseas military mail).

* * * * *

3.0 PREPARATION—IRREGULAR PARCELS

[Revise heading of 3.1 to read as follows:]

3.1 Required Packaging

[Revise the first sentence of 3.1 to read as follows:]

A package must be prepared when the quantity of addressed pieces for a required presort level reaches a minimum of 10 pieces. Smaller volumes are not permitted except for mixed ADC packages. Packaging is not required for pieces placed in 5-digit scheme sacks and 5-digit sacks when such pieces are enclosed in an envelope, full-length sleeve, full-length wrapper, or polybag and the minimum package volume is met. * * *

* * * * *

[Revise heading of 3.2 to read as follows:]

3.2 Packaging and Labeling

[Revise 3.2 to read as follows:]

Preparation sequence, package size, and labeling:

a. 5-digit (optional, but required for 5-digit rate eligibility); 10-piece minimum; red Label 5 or optional endorsement line (OEL).

b. 3-digit (required); 10-piece minimum; green Label 3 or OEL.

c. ADC (required); 10-piece minimum; pink Label A or OEL.

d. Mixed ADC (required); no minimum; tan Label X or OEL.

[Revise heading of 3.3 to read as follows:]

3.3 Required Sacking

* * * * *

[Revise heading of 3.4 to read as follows:]

3.4 Sacking and Labeling

[Revise introductory text to read as follows:]

Preparation sequence and labeling:

* * * * *

[Revise 3.4b(1) to read as follows:]

(1) Line 1: use city, state, and 5-digit ZIP Code on parcels (see M031 for overseas military mail).

* * * * *

4.0 PREPARATION—MACHINABLE PARCELS

[Revise heading of 4.1 to read as follows:]

4.1 Required Sacking

* * * * *

[Revise heading of 4.2 to read as follows:]

4.2 Sacking and Labeling

[Revise introductory text to read as follows:]

Preparation sequence and labeling:

* * * * *

[Revise 4.2b(1) to read as follows:]

(1) Line 1: use city, state, and 5-digit ZIP Code on parcels (see M031 for overseas military mail).

* * * * *

M800 All Automation Mail

* * * * *

M820 Flat-Size Mail

* * * * *

2.0 FIRST-CLASS MAIL—REQUIRED PACKAGE-BASED PREPARATION

[Revise heading of 2.1 to read as follows:]

2.1 Packaging and Labeling

[Change in 2.1a “red Label D” to “red Label 5''; change in 2.1d “tan Label MXD” to “tan Label X''.]

[Revise heading of 2.2 to read as follows:]

2.2 Traying and Labeling

* * * * *

[Revise 2.2a(1) to read as follows:]

(1) Line 1: city, state, and 5-digit ZIP Code on package (see M032 for overseas military mail).

* * * * *

4.0 PERIODICALS

[Revise heading of 4.1 to read as follows:]

4.1 Packaging and Labeling

[Change in 4.1b “red Label D” to “red Label 5''; change in 4.1e “tan Label MXD” to “tan Label X''.]

[Revise heading of 4.2 to read as follows:]

3.2 Sacking and Labeling

* * * * *

[Revise 4.2b(1) to read as follows:]

(1) Line 1: city, state, and 5-digit ZIP Code on packages (see M032 for overseas military mail).

* * * * *

5.0 STANDARD MAIL

[Revise heading of 5.1 to read as follows:]

5.1 Packaging and Labeling

[Change in 5.1b “red Label D” to “red Label 5''; change in 5.1e “tan Label MXD” to “tan Label X''.]

* * * * *

[Revise heading of 5.3 to read as follows:]

5.3 Sacking and Labeling

* * * * *

[Revise 5.3b(1) to read as follows:]

(1) Line 1: city, state, and 5-digit ZIP Code on packages (see M032 for overseas military mail).

* * * * *

6.0 BOUND PRINTED MATTER

[Revise heading of 6.1 to read as follows:]

6.1 Packaging and Labeling

[Change in 6.1b “red Label D” to “red Label 5''; change in 6.1e “tan Label MXD” to “tan Label X''.]

[Revise heading of 6.2 to read as follows:]

6.2 Sacking and Labeling

* * * * *

[Revise 6.2b(1) to read as follows:]

(1) Line 1: city, state, and 5-digit ZIP Code on packages (see M032 for overseas military mail).

* * * * *

M900 Advanced Preparation Options for Flats

* * * * *

M950 Co-Packaging Automation Rate and Presorted Rate Pieces

1.0 FIRST-CLASS MAIL

* * * * *

1.2 Package Preparation

[Change in 1.2a “red Label D” to “red Label 5''; change in 1.2d “tan Label MXD” to “tan Label X''.]

* * * * *

2.0 PERIODICALS

* * * * *

2.2 Package Preparation

[Change in 2.2c “red Label D” to “red Label 5''; change in 2.2f “tan Label MXD” to “tan Label X''.]

* * * * *

3.0 STANDARD MAIL

* * * * *

3.2 Package Preparation

[Change in 3.2b all instances of “red Label D” to “red Label 5''; change in 3.2e “tan Label MXD” to “tan Label X''.]

* * * * *

4.0 BOUND PRINTED MATTER

* * * * *

4.2 Package Preparation

[Change in 4.2b “red Label D” to “red Label 5''; change in 4.2e “tan Label MXD” to “tan Label X''.]

An appropriate amendment to 39 CFR 111 to reflect these changes will be published if the proposal is adopted.

Stanley F. Mires,
Chief Counsel, Legislative.

[FR Doc. 03-21043 Filed 8-15-03; 8:45 am]

BILLING CODE 7710-12-P